DEPARTMENT OF THE INTERIOR

Bureau of Land Management

[WO-320-1990-FA-24 1A, OMB Control Number 1004-0114]

Information Collection Submitted to the Office of Management and Budget Under the Paperwork Reduction Act

The Bureau of Land Management (BLM) will send a request to extend the current information collection to the Office of Management and Budget (OMB) under the provisions of the Paperwork Reduction Act (44 U.S.C. 3501 et seq.). On April 21, 2005, the BLM published a notice in the Federal Register (70 FR 20768) requesting comment on this information collection. The comment period ended on June 20, 2005. The BLM did not receive any comments. You may obtain copies of the collection of information and related forms and explanatory material by contacting the BLM Information Collection Clearance Officer at the telephone number listed below.

The OMB must respond to this request within 60 days but may respond after 30 days. For maximum consideration your comments and suggestions on the requirement should be directed within 30 days to the Office of Management and Budget, Interior Department Desk Officer (1004-0114), at OMB-OIRA via facsimile to (202) 395-6566 or e-mail to OIRA_DOCKET@omb.eop.gov. Please provide a copy of your comments to the U.S. Department of the Interior, Bureau of Land Management, Mail Stop 401LS, 1849 C Street, NW., Attention: Bureau Information Collection Clearance Officer (WP-630), Washington, DC 20240.

Nature of Comments: We specifically request your comments on the following:

1. Whether the collection of information is necessary for the proper functioning of the BLM, including whether the information will have practical utility;

2. The accuracy of our estimates of the information collection burden, including the validity of the methodology and assumptions we use;

3. Ways to enhance the quality, utility and clarity of the information we collect; and

4. Ways to minimize the information collection burden on those who are to respond, including the use of appropriate automated, electronic, mechanical, or other forms of information technology.

Title: Recordation of Location Notices and Annual Filings for Mining Claims, Mill Sites, and Tunnel Sites; Payment of Location and Maintenance Fees and Service Charges. (43 CFR part 3730, 3810, 3820, 3830-3838).

OMB Control Number: 1004-0114.

Bureau Form Number: 3830-2 and 3830-3.

Abstract: The Bureau of Land Management (BLM) collects and uses the information to determine whether or not mining claimants have met statutory requirements. Mining claimants must record location notices or certificates of mining claims, mill sites, and tunnel sites with BLM within 90 days of their location. Claimants who do not pay the maintenance fee must make an annual filing by December 30. The mining claim or site is forfeited by operation of law if claimants fail to record the mining claim or site or to submit an annual filing when required.

Frequency: Once for notices and certificates of location, notice of intent to locate mining claims, and payment of location fees. Once for annual filings, payment of maintenance fees, or filing of waivers, and as needed for recording of amendments to a previously recorded notice or certificate of location or transfer of interest.

Description of Respondents: Private sector.

Estimated Completion Time:

43 CFR citation | Annual # of responses | Hours/response (minutes) | Total hours | Cost to public
Form 3830-2 | 5,675 | 20 | 1,892 | $51,075
Form 3830-3 | 271 | 25 | 113 | 2,710
3830 | 111,274 | 8 | 14,837 | 148,370
3832 | 1,800 | 8 | 240 | 2,400
3833 | 1,800 | 8 | 240 | 2,400
3834 | 1,800 | 8 | 240 | 2,400
3836 | 100,000 | 8 | 13,333 | 133,330
3837 | 1,800 | 8 | 240 | 2,400
Totals | 224,420 |  | 31,135 |

Annual Responses: 224,420.

Filing Fee Per Response: A $25 filing fee for Form 3830-3.

Annual Burden Hours: 31,135.

Bureau Clearance Officer: (202) 452-5033.

Dated: December 14, 2006.
Ted R. Hudson,
Bureau of Land Management, Acting Division Chief of Regulatory Affairs.

[FR Doc. 06-9764 Filed 12-18-06; 8:45 am]

BILLING CODE 4310-84-M